SECURITIES AND EXCHANGE COMMISSION

[Release No. 34-96936; File No. SR-NSCC-2023-002]

Self-Regulatory Organizations; National Securities Clearing Corporation; Notice of Filing and Immediate Effectiveness of a Proposed Rule Change To Establish Implementation Date of Revisions Relating to Excess Capital Premium Charge

February 15, 2023.

Pursuant to Section 19(b)(1) of the Securities Exchange Act of 1934 (“Act”) ¹ and Rule 19b-4 thereunder,² notice is hereby given that on February 9, 2023, National Securities Clearing Corporation (“NSCC”) filed with the Securities and Exchange Commission (“Commission”) the proposed rule change as described in Items I, II and III below, which Items have been prepared by the clearing agency. NSCC filed the proposed rule change pursuant to Section 19(b)(3)(A) of the Act ³ and Rule 19b-4(f)(4) thereunder.⁴ The Commission is publishing this notice to solicit comments on the proposed rule change from interested persons.

¹ 15 U.S.C. 78s(b)(1).

² 17 CFR 240.19b-4.

³ 15 U.S.C. 78s(b)(3)(A).

⁴ 17 CFR 240.19b-4(f)(4).

I. Clearing Agency's Statement of the Terms of Substance of the Proposed Rule Change

The proposed rule change consists of amendments to the NSCC Rules & Procedures (“Rules”) ⁵ in order to state that the changes to the Rules that were proposed pursuant to File Number SR-NSCC-2022-005 (“Rule Filing”), as amended, and were approved by the Commission on February 1, 2023 (“Approved Rule Changes”) will be implemented by March 13, 2023, as described in greater detail below.

⁵ Capitalized terms not defined herein are defined in the Rules, available at http://dtcc.com/~/media/Files/Downloads/legal/rules/nscc_rules.pdf.

II. Clearing Agency's Statement of the Purpose of, and Statutory Basis for, the Proposed Rule Change

In its filing with the Commission, the clearing agency included statements concerning the purpose of and basis for the proposed rule change and discussed any comments it received on the proposed rule change. The text of these statements may be examined at the places specified in Item IV below. The clearing agency has prepared summaries, set forth in sections A, B, and C below, of the most significant aspects of such statements.

(A) Clearing Agency's Statement of the Purpose of, and Statutory Basis for, the Proposed Rule Change

1. Purpose

On May 20, 2022, NSCC filed the Rule Filing with the Commission pursuant to Section 19(b)(1) of the Act ⁶ and Rule 19b-4 thereunder.⁷ NSCC filed amendments to the Rule Filing on June 1, 2022 (“Amendment No. 1”), July 6, 2022 (“Amendment No. 2”), and November 28, 2022 (“Amendment No. 3”).

⁶ 15 U.S.C. 78s(b)(1).

⁷ 17 CFR 240.19b-4.

On February 1, 2023, the Commission approved the Rule Filing, as modified by Amendment Nos. 1, 2, and 3, pursuant to Section 19(b)(2) of the Act.⁸ The Approved Rule Changes consist of modifications to the Rules to revise the Excess Capital Premium (“ECP”) charge by enhancing the methodology for calculating the charge, and improve the transparency of the Rules regarding the ECP charge.⁹

⁸ 15 U.S.C. 78s(b)(2).

⁹ See Securities Exchange Act Release No. 96786 (February 1, 2023), 88 FR 8013 (February 7, 2023) (SR-NSCC-2022-005).

NSCC is proposing to amend the Rules to add a legend to Rule 1 (Definitions and Descriptions), Procedure XV (Clearing Fund Formula and Other Matters) and Addendum B (Qualifications and Standards of Financial Responsibility, Operational Capability and Business History) of the Rules to state that the Approved Rule Changes will be implemented by March 13, 2023.¹⁰ Upon implementation of the Approved Rule Changes, the legend will automatically be removed from these Rules.

¹⁰ Supra note 5.

2. Statutory Basis

Section 17A(b)(3)(F) of the Act requires, in part, that the Rules be designed to promote the prompt and accurate clearance and settlement of securities transactions.¹¹

¹¹ 15 U.S.C. 78q-1(b)(3)(F).

By establishing the date on which the Approved Rule Changes would be implemented, this proposal would enable Members to timely fulfill their obligations to NSCC, which would in turn support NSCC's ability to promote the prompt and accurate clearance and settlement of securities transactions. Therefore, NSCC believes that the proposal is consistent with Section 17A(b)(3)(F) of the Act.

(B) Clearing Agency's Statement on Burden on Competition

NSCC does not believe that the proposal to establish an implementation date of the Approved Rule Changes would have any impact, or impose any burden, on competition.

(C) Clearing Agency's Statement on Comments on the Proposed Rule Change Received From Members, Participants, or Others

NSCC has not received or solicited any written comments relating to this proposal. If any written comments are received, they will be publicly filed as an Exhibit 2 to this filing, as required by Form 19b-4 and the General Instructions thereto.

Persons submitting comments are cautioned that, according to Section IV (Solicitation of Comments) of the Exhibit 1A in the General Instructions to Form 19b-4, the Commission does not edit personal identifying information from comment submissions. Commenters should submit only information that they wish to make available publicly, including their name, email address, and any other identifying information.

All prospective commenters should follow the Commission's instructions on how to submit comments, available at https://www.sec.gov/regulatory-actions/how-to-submit-comments. General questions regarding the rule filing process or logistical questions regarding this filing should be directed to the Main Office of the Commission's Division of Trading and Markets at tradingandmarkets@sec.gov or 202-551-5777.

NSCC reserves the right to not respond to any comments received.

III. Date of Effectiveness of the Proposed Rule Change, and Timing for Commission Action

The foregoing rule change has become effective pursuant to Section 19(b)(3)(A) ¹² of the Act and paragraph (f) of Rule 19b-4 thereunder.¹³ At any time within 60 days of the filing of the proposed rule change, the Commission summarily may temporarily suspend such rule change if it appears to the Commission that such action is necessary or appropriate in the public interest, for the protection of investors, or otherwise in furtherance of the purposes of the Act.

¹² 15 U.S.C. 78s(b)(3)(A).

¹³ 17 CFR 240.19b-4(f).

IV. Solicitation of Comments

Interested persons are invited to submit written data, views and arguments concerning the foregoing, including whether the proposed rule change is consistent with the Act. Comments may be submitted by any of the following methods:

Electronic Comments

• Use the Commission's internet comment form (http://www.sec.gov/rules/sro.shtml); or

• Send an email to rule-comments@sec.gov. Please include File Number SR-NSCC-2023-002 on the subject line.

Paper Comments

• Send paper comments in triplicate to Secretary, Securities and Exchange Commission, 100 F Street NE, Washington, DC 20549.

All submissions should refer to File Number SR-NSCC-2023-002. This file number should be included on the subject line if email is used. To help the Commission process and review your comments more efficiently, please use only one method. The Commission will post all comments on the Commission's internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549 on official business days between the hours of 10:00 a.m. and 3:00 p.m. Copies of the filing also will be available for inspection and copying at the principal office of NSCC and on DTCC's website (http://dtcc.com/legal/sec-rule-filings.aspx). All comments received will be posted without change. Persons submitting comments are cautioned that we do not redact or edit personal identifying information from comment submissions. You should submit only information that you wish to make available publicly. All submissions should refer to File Number SR-NSCC-2023-002 and should be submitted on or before March 15, 2023.

For the Commission, by the Division of Trading and Markets, pursuant to delegated authority.¹⁴
¹⁴ 17 CFR 200.30-3(a)(12).
Sherry R. Haywood,
Assistant Secretary.

[FR Doc. 2023-03583 Filed 2-21-23; 8:45 am]

BILLING CODE 8011-01-P